DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 15, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on July 9, 2019.
Donald P. Burger,
Chief, General Approvals and Permits Branch.

Special Permits Data
Application No. | Applicant | Regulation(s) affected | Nature of the special permits thereof
20896-N | Applied Energy Systems, Inc | 172.101(j), 173.187, 173.212, 173.240, 173.242, 176.83 | To authorizes the transportation in commerce of a gas purification apparatus containing certain Division 4.2 (spontaneously combustible solids) in non-DOT specification stainless steel pressure vessels. (modes 1, 3, 4)
20898-N | Rivian Automotive, LLC | 172.101(j), 173.185(a), 173.185(b)(3)(i), 173.185(b)(3)(ii) | To authorize the transportation in commerce of prototype and low production lithium ion batteries and batteries contained in vehicles aboard cargo-only aircraft. (mode 4)
20899-N | CAIRE INC | 171.2(g), 172.203(a), 172.301(c), 173.22(a), 180.211(c)(2) | To authorize the repair of certain DOT 4L cylinders without requiring pressure testing. (modes 1, 2, 3, 4, 5)
20900-N | AMETEK AMERON, LLC | 173.56(b), 173.302(a) | To authorize the manufacture, mark, sale, and use of non-DOT specification cylinders similar to DOT 3HT. (modes 1, 2, 3, 4, 5)
20904-N | Piston Automotive, L.L.C | 172.101(j) | To authorize the transportation of lithium ion batteries exceeding 35 kg net weight by cargo-only aircraft. (mode 4)
20905-N | POLLUTION CONTROL INC | 173.56(b) | To authorize the one-way transportation in commerce of waste explosive substances that had previously been approved. (mode 1)
20906-N | AKZO NOBEL FUNCTIONAL CHEMICALS LLC | 173.28(b)(2), 173.181 | To authorize the transportation in commerce of the hazardous materials identified in paragraph 6 in certain UN 1A1 drums and the reuse of those UN1a! drums without leakproofness testing. (modes 1, 2, 3)
20909-N | SMBC RAIL SERVICES LLC | 172.203(a), 172.302(c), 173.247 | To authorize the use of certain DOT 117 tank car tanks for the transportation in commerce of certain elevated temperature materials. (mode 2)
20910-N | CELLBLOCK FCS, LLC | 172.200, 172.300, 172.500, 172.400, 172.700(a) | To authorize the manufacture, mark, sale, and use of UN 4G packaging for the transportation of damaged, defective, recalled lithium cells and batteries, including batteries contained in equipment, without being subject to certain hazard communication requirements. (mode 1, 3)
20911-N | TEN-E PACKAGING SERVICES, INC | 173.308(b) | To authorize the testing of lighter designs using an alternative testing scheme. (modes 1, 2, 3, 4, 5)
20913-N | Tiveni | 173.185(a) | To authorize the transportation in commerce of prototype lithium ion batteries by cargo-only aircraft. (mode 4)

[FR Doc. 2019-15038 Filed 7-15-19; 8:45 am]

BILLING CODE 4909-60-P